DEPARTMENT OF LABOR

Employment and Training Administration

[TA-W-53,656]

Halliburton Energy Services, Screens Manufacturing Facility, Houston, TX; Notice of Termination of Investigation

Pursuant to section 221 of the Trade Act of 1974, as amended, an investigation was initiated on November 28, 2003 in response to a petition filed on behalf of workers of Halliburton Energy Services, Screen Manufacturing Facility, Houston, Texas.

The petitioning group of workers is covered by an active certification issued, and which remains in effect until July 15, 2004 (TA-W-41,091E). Consequently, further investigation in this case would serve no purpose, and the investigation has been terminated.

Signed at Washington, DC, this 8th day of December, 2003.
Linda G. Poole
Certifying Officer, Division of Trade Adjustment Assistance.

[FR Doc. 03-31464 Filed 12-19-03; 8:45 am]

BILLING CODE 4510-30-P